DEPARTMENT OF THE INTERIOR

Bureau of Land Management

[NMNM 94897]

Public Land Order No. 7495; Partial Modification of an Executive Order and Transfer of Jurisdiction; New Mexico

AGENCY: Bureau of Land Management, Interior.

ACTION: Public Land Order.

SUMMARY: This order modifies an Executive Order insofar as it affects approximately 903 acres of land by changing the reservation of the land for military purposes to a reservation of the land for Bureau of Indian Affairs programs and establishing a 20-year term. Jurisdiction of the land is transferred from the Secretary of Defense/Secretary of the Army to the Secretary of the Interior for management by the Bureau of Indian Affairs. The land will remain closed to surface entry and mining to protect an area having cultural, historical, geological and archeological significance to the Navajo Nation and the Pueblo of Zuni.

EFFECTIVE DATE: August 24, 2001.

FOR FURTHER INFORMATION CONTACT: Debby Lucero, BLM Albuquerque Field Office, 435 Montano Road NE, Albuquerque, New Mexico 87107, 505-761-8787.

SUPPLEMENTARY INFORMATION: By virtue of the authority vested in the Secretary of the Interior by Section 204 of the Federal Land Policy and Management Act of 1976, 43 U.S.C. 1714 (1994), it is ordered as follows:

1. The Executive Order dated February 18, 1870, which withdrew and reserved public land for use by the War Department for Fort Wingate is hereby modified to establish a 20-year term for the land described below. Jurisdiction of the following described land is hereby transferred from the Secretary of Defense/Secretary of the Army to the Secretary of the Interior and reserved for use and administration by the Bureau of Indian Affairs:

Parcel 15 and Parcel 17 of the administrative survey plat titled “ADMINISTRATIVE SURVEY OF CERTAIN PARCELS WITHIN FORT WINGATE ARMY DEPOT, NEW MEXICO,” approved and dated September 18, 2000, on file at the Bureau of Land Management's New Mexico State Office, Santa Fe, New Mexico; excluding the area identified as “Right-of-Way” on the survey plat titled “TOWNSHIP 15 NORTH, RANGE 16 WEST OF THE NEW MEXICO PRINCIPLE MERIDIAN, NEW MEXICO, WITHIN THE FORT WINGATE ARMY DEPOT, ADMINISTRATIVE RIGHT-OF-WAY SURVEY,” dated and approved October 10, 2000, on file at the New Mexico State Office.

The areas of Parcel 15 and Parcel 17 aggregate approximately 903 acres.

2. The land described in Paragraph 1 continues to be withdrawn from settlement, sale, location, or entry under the general land laws, including the Unites States mining laws (30 U.S.C. Ch.2 (1994)), but not from leasing under the mineral leasing laws, to protect an area having cultural, historical, geological and archeological significance to the Navajo Nation and the Pueblo of Zuni. The withdrawn land is to be managed by the Bureau of Indian Affairs for these values, as well as other compatible uses.

3. The land and resources shall be managed by the Bureau of Indian Affairs, its successors or assigns, in accordance with the Memorandum of Agreement between the Ballistic Missile Defense Organization and the Department of the Interior dated June 13, 2000. The Memorandum of Agreement shall be incorporated into any future land transfers for the life of the Memorandum of Agreement. The Memorandum of Agreement may be reviewed and amended by the agencies as necessary.

4. The Department of the Army and its officers, agents, employees, contractors, and subcontractors will have the right of access, upon reasonable notice, to enter the land described in this order for the purpose of activities related to the Fort Wingate Depot Activity Installation Restoration Program and other environmentally related compliance programs and to construct, operate, maintain or undertake response and remedial actions to implement this program.

5. The Department of the Army represents that, to the best of its knowledge, no unexploded ordnance are currently present on the land described in this order. Due to the former use of the land as an active military installation, there is a possibility that unexploded ordnance may exist on the land. Upon due notice, the Army agrees to remove any such remaining unexploded ordnance discovered on the land, as required under applicable law and regulations, as expeditiously as is reasonable and practicable, subject to the availability of funds.

6. This withdrawal will expire 20 years from the effective date of this order unless, as a result of a review conducted before the expiration date pursuant to Section 204(f) of the Federal Land Policy and Management Act of 1976, 43 U.S.C. 1714(f) (1994), the Secretary determines that the withdrawal shall be extended.

Dated: August 10, 2001.
J. Steven Griles,
Deputy Secretary.

[FR Doc. 01-21453 Filed 8-23-01; 8:45 am]

BILLING CODE 4310-02-P